DEPARTMENT OF HEALTH AND HUMAN SERVICES

Administration for Children and Families

Announcement of the Publication of Funding Opportunity Announcements under the Runaway and Homeless Youth Act

AGENCY: Family and Youth Services Bureau (FYSB), Administration on Children, Youth and Families (ACYF), ACF, HHS.

ACTION: Funding Opportunity Announcements for the Basic Center Program (BCP) and Street Outreach Program (SOP) are now available for application.

CFDA Number: 93.623, 93.557.

Statutory Authority: Runaway and Homeless Youth Act (Pub. L. 110-378), 42 U.S.C. sections 5701-5752.

SUMMARY: As required under 45 CFR 1351.17, the Administration for Children and Families (ACF), Administration on Children, Youth and Families (ACYF), Family and Youth Services Bureau (FYSB) announces the publication of the following Funding Opportunity Announcements (FOAs) to the ACF Funding Opportunities Web site (http://www.acf.hhs.gov/grants/index.html) on 4/25/2011:

Funding opportunity title | Funding opportunity number (FON) | Access to FOA | Application due date
Basic Center Program | HHS-2011-ACF-ACYF-CY-0166 | http://www.acf.hhs.gov/grants/open/foa/view/HHS-2011-ACF-ACYF-CY-0166 | 6/24/2011
Street Outreach Program | HHS-2011-ACF-ACYF-YO-0168 | http://www.acf.hhs.gov/grants/open/foa/view/HHS-2011-ACF-ACYF-YO-0168 | 6/24/2011

Additional information and electronic submission of applications are available at: http://www.Grants.gov—Find and Apply.

FOR FURTHER INFORMATION CONTACT: Curtis O. Porter, Director, Division of Youth Services, Family and Youth Services Bureau, 1250 Maryland Ave., SW., Suite 800, Washington, DC 20024. Telephone: 202-205-8102; e-mail: NCFY@acf.hhs.gov.

Dated: May 13, 2011.
Bryan Samuels,
Commissioner, Administration on Children, Youth and Families.

[FR Doc. 2011-12893 Filed 5-24-11; 8:45 am]

BILLING CODE 4182-03-P